DEPARTMENT OF TRANSPORTATION

National Highway Traffic Safety Administration

[NHTSA Docket No. NHTSA-2014-0060]

Meeting Notice—Federal Interagency Committee on Emergency Medical Services

AGENCY: National Highway Traffic Safety Administration (NHTSA), DOT.

ACTION: Meeting Notice—Federal Interagency Committee on Emergency Medical Services.

SUMMARY: NHTSA announces a meeting of the Federal Interagency Committee on Emergency Medical Services (FICEMS) to be held in the Washington, DC area. This notice announces the date, time, and location of the meeting, which will be open to the public. Pre-registration is encouraged.

DATES: The meeting will be held on June 19, 2014, from 1:00 p.m. e.d.t. to 4:00 p.m. e.d.t.

ADDRESSES: The meeting will be held at the Wilbur J. Cohen Building at 330 Independence Avenue SW., Washington, DC 20024 in the Snow Room on the fifth floor.

FOR FURTHER INFORMATION CONTACT: Drew Dawson, Director, Office of Emergency Medical Services, National Highway Traffic Safety Administration, 1200 New Jersey Avenue SE., NTI-140, Washington, DC 20590, Telephone number (202) 366-9966; Email Drew.Dawson@dot.gov.

Registration Information: This meeting will be open to the public; however, pre-registration is highly encouraged to comply with security procedures. Members of the public wishing to attend should register online at http://events.signup4.com/FICEMSJune2014 no later than June 13, 2014. Please note that the information collected for registration, including name and email address, will be used solely for the purposes of providing registrants with access to the meeting site and to provide meeting materials to registrants via email when they become available.

A picture I.D. must be provided to enter the Cohen Building and it is suggested that visitors arrive 30 minutes early in order to facilitate entry. Attendees who are not United States citizens must produce a valid passport to enter the building. Please be aware that visitors to the Cohen Building are subject to search and must pass through a magnetometer. Weapons of any kind are strictly forbidden in the building unless authorized through the performance of the official duties of your employment (i.e. law enforcement officer). Federal staff will be in the lobby beginning at 12:30 p.m. EDT on the day of the meeting to escort members of the public to the meeting room. Please enter through the south entrance on C Street SW. between 3rd and 4th Streets SW.

SUPPLEMENTARY INFORMATION: Section 10202 of the Safe, Accountable, Flexible, Efficient Transportation Equity Act: A Legacy For Users (SAFETEA-LU), Public Law 109-59, provides that the FICEMS consist of several officials from Federal agencies as well as a State emergency medical services director appointed by the Secretary of Transportation.

Tentative Agenda: This meeting of the FICEMS will focus on addressing the requirements of SAFETEA-LU and the opportunities for collaboration among the key Federal agencies involved in emergency medical services. The tentative agenda includes:

• Report from the Chair of the National EMS Advisory Council (NEMSAC) on recently adopted recommendations for FICEMS

• Discussion of Possible Revision of the 1996 EMS Agenda for the Future

• Overview of the FICEMS Strategic Plan and the Role of Agencies in Implementation

• Reports on Progress Related to Four Priority Areas of the Strategic Plan

○ EMS Preparedness

○ EMS Data Standardization

○ Evidence-based Guidelines Development and Implementation

○ Military Veteran Credentialing, including Considering of a Position Statement on the Topic

• Reports, updates, and recommendations from FICEMS members

• An overview of the GROW AMERICA Act

• A public comment period

There will not be a call-in number provided for this FICEMS meeting; however, minutes of the meeting will be available to the public online at www.EMS.gov. A final agenda and other meeting materials will be posted at www.EMS.gov/FICEMS.htm prior to the meeting.

Issued on: May 23, 2014.
Jeffrey P. Michael,
Associate Administrator, Research and Program Development.

[FR Doc. 2014-12499 Filed 5-28-14; 8:45 am]

BILLING CODE 4910-59-P